DEPARTMENT OF TRANSPORTATION

Federal Motor Carrier Safety Administration

[Docket No. FMCSA-2014-0003]

Qualification of Drivers; Exemption Applications; Vision

AGENCY: Federal Motor Carrier Safety Administration (FMCSA), DOT.

ACTION: Notice of applications for exemptions; request for comments.

SUMMARY: FMCSA announces receipt of applications from 75 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before April 14, 2014.

ADDRESSES: You may submit comments bearing the Federal Docket Management System (FDMS) Docket No. FMCSA-2014-0003 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 75 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Luis A. Agudo

Mr. Agudo, age 34, has a retinal scar in his right eye due to a traumatic incident in 2012. The visual acuity in his right eye is 20/80, and in his left eye, 20/20. Following an examination in 2013, his optometrist stated, “In my opinion, Luis has no trouble seeing with [sic] left eye, and is safe driving a commercial vehicle, but I do recommend follow up with retina specialist or myself if changes noted, [sic] to ensure/verify stability of right eye.” Mr. Agudo reported that he has driven straight trucks for 5 years, accumulating 150,000 miles, and tractor-trailer combinations for 5 years, accumulating 600,000 miles. He holds a Class A Commercial Driver's License (CDL) from Minnesota. His driving record for the last 3 years shows no crashes and no convictions for moving violations in a CMV.

Ilidio G. Almeida

Mr. Almeida, 52, has had amblyopia in his right eye since birth. The visual acuity in his right eye is counting fingers, and in his left eye, 20/20. Following an examination in 2013, his ophthalmologist noted, “Vision should be adequate to drive small trucks if by law one eyed [sic] patient is allowed commercially.” Mr. Almeida reported that he has driven straight trucks for 16.5 years, accumulating 5.8 million miles. He holds an operator's license from New Jersey. His driving record for the last 3 years shows no crashes and no convictions for moving violations in a CMV.

Roger E. Anderson

Mr. Anderson, 47, has had amblyopia in his left eye since childhood. The visual acuity in his right eye is 20/20, and in his left eye, 20/60. Following an examination in 2013, his optometrist noted, “Mr. Anderson was diagnosed with amblyopia of the right eye before the age of 10 . . . In my opinion he has the ability to operate a commercial vehicle.” Mr. Anderson reported that he has driven straight trucks for 5 years, accumulating 5,000 miles, and tractor-trailer combinations for 18 years, accumulating 2.16 million miles. He holds a Class A CDL from Texas. His driving record for the last 3 years shows no crashes and no convictions for moving violations in a CMV.

Pablo Ayala

Mr. Ayala, 46, has had amblyopia in his left eye since childhood. The visual acuity in his right eye is 20/20, and in his left eye, 20/80. Following an examination in 2013, his optometrist noted, “Mr. Ayala has sufficient vision to perform the driving tasks required to operate a commercial vehicle.” Mr. Ayala reported that he has driven straight trucks for 8 years, accumulating 48,000 miles, and tractor-trailer combinations for 8 years, accumulating 64,000 miles. He holds a Class A CDL from Florida. His driving record for the last 3 years shows no crashes and no convictions for moving violations in a CMV.

Hurley H. Bacon

Mr. Bacon, 75, has complete loss of vision in his left eye due to a traumatic incident in 1959. The visual acuity in his right eye is 20/20, and in his left eye, light perception. Following an examination in 2013, his ophthalmologist noted, “In my medical opinion Mr. Hurley Bacon has sufficient vision to perform his driving task required to operate a commercial vehicle.” Mr. Bacon reported that he has driven straight trucks for 54 years, accumulating 540,000 miles. He holds an operator's license from New Mexico. His driving record for the last 3 years shows no crashes and no convictions for moving violations in a CMV.

Dmitry D. Bayda

Mr. Bayda, 41, has had a retinal detachment in his left eye since childhood. The visual acuity in his right eye is 20/20, and in his left eye, no light perception. Following an examination in 2013, his optometrist noted, “I certify that in my medical opinion, he has sufficient vision to perform the driving tasks required to operate a commercial vehicle.” Mr. Bayda reported that he has driven tractor-trailer combinations for 7 years, accumulating 525,000 miles. He holds a Class A CDL from Washington. His driving record for the last 3 years shows no crashes and no convictions for moving violations in a CMV.

Marvin J. Bensend Jr.

Mr. Bensend, 56, has had a cataract in his left eye since 1975. The visual acuity in his right eye is 20/20, and in his left eye, 20/400. Following an examination in 2013, his optometrist noted, “In my opinion, Mr. Bensend has sufficient vision to perform the driving tasks required to operate a commercial vehicle.” Mr. Bensend reported that he has driven straight trucks for 40 years, accumulating 800,000 miles. He holds an operator's license from Mississippi. His driving record for the last 3 years shows no crashes and no convictions for moving violations in a CMV.

Ronald L. Bird

Mr. Bird, 59, has complete loss of vision in his left eye due to a traumatic incident in 1993. The visual acuity in his right eye is 20/20, and in his left eye, no light perception. Following an examination in 2013, his optometrist noted, “I certify that in my medical opinion that Ron L. Bird has sufficient vision to perform the driving tasks required to operate a commercial vehicle.” Mr. Bird reported that he has driven tractor-trailer combinations for 5 years, accumulating 375,000 miles. He holds a Class A CDL from Utah. His driving record for the last 3 years shows no crashes and no convictions for moving violations in a CMV.

John R. Bohman

Mr. Bohman, 36, has a retinal detachment in his left eye due to a traumatic incident in 1997. The visual acuity in his right eye is 20/20, and in his left eye, no light perception. Following an examination in 2013, his ophthalmologist noted, “It is my opinion that John Bohman has sufficient vision to perform the driving tasks required to operate a commercial vehicle.” Mr. Bohman reported that he has driven straight trucks for 2 years, accumulating 83,000 miles, and tractor-trailer combinations for 13 years, accumulating 1.08 million miles. He holds a Class A CDL from Ohio. His driving record for the last 3 years shows no crashes and no convictions for moving violations in a CMV.

Dale A. Braton

Mr. Braton, 56, has had a retinal detachment in his left eye since 2005. The visual acuity in his right eye is 20/20, and in his left eye, 20/70. Following an examination in 2013, his optometrist noted, “Dale Braton has sufficient vision to perform [sic] driving tasks of a commercial vehicle.” Mr. Braton reported that he has driven straight trucks for 40 years, accumulating 320,000 miles. He holds an operator's license from Minnesota. His driving record for the last 3 years shows no crashes and no convictions for moving violations in a CMV.

Michael R. Burnau

Mr. Burnau, 25, has had a macular hole in his left eye since 2005. The visual acuity in his right eye is 20/20, and in his left eye, 20/200. Following an examination in 2013, his optometrist noted, “Because Mr. Burnau has good peripheral vision in both eyes and good central visual acuity in his right eye, it is my opinion that he has sufficient visual function to operate a commercial vehicle.” Mr. Burnau reported that he has driven tractor-trailer combinations for 6 years, accumulating 150,000 miles. He holds a Class A CDL from Missouri. His driving record for the last 3 years shows no crashes and no convictions for moving violations in a CMV.

Balwinder S. Chatha

Mr. Chatha, 51, has had macular edema and diabetic retinopathy in his left eye since 2012. The visual acuity in his right eye is 20/25, and in his left eye, 20/60. Following an examination in 2013, his ophthalmologist noted, “Since Balwinder has nearly normal central vision (20/25 to 20/30+) in his right eye and good peripheral vision in both eyes, it is my medical opinion that he has sufficient vision to safely drive a commercial vehicle at this time.” Mr. Chatha reported that he has driven tractor-trailer combinations for 26 years, accumulating 2.08 million miles. He holds a Class A CDL from California. His driving record for the last 3 years shows no crashes and one conviction for a moving violation in a CMV; he failed to stop at a stop sign.

Eddie D. Coggins

Mr. Coggins, 65, has had amblyopia in his left eye since birth. The visual acuity in his right eye is 20/20, and in his left eye, 20/200. Following an examination in 2013, his optometrist noted, “Vision is sufficient to perform driving tasks required to operate [sic] commercial vehicle.” Mr. Coggins reported that he has driven straight trucks for 19 years, accumulating 3.61 million miles, and buses for 9 years, accumulating 18,000 miles. He holds a Class A CDL from North Carolina. His driving record for the last 3 years shows no crashes and no convictions for moving violations in a CMV.

Cody W. Christian

Mr. Christian, 27, has corneal scarring in his right eye due to a traumatic incident during childhood. The visual acuity in his right eye is light perception, and in his left eye, 20/20. Following an examination in 2013, his optometrist noted, “Cody seems to be able to function to full capacity as far as being able to see well enough to operate a commercial vehicle.” Mr. Christian reported that he has driven straight trucks for 18 months, accumulating 1,000 miles, and tractor-trailer combinations for 18 months, accumulating 5,000. He holds a Class A CDL from Oklahoma. His driving record for the last 3 years shows no crashes and no convictions for moving violations in a CMV.

Ronald G. Cote

Mr. Cote, 62, has had macular degeneration in his right eye since 2005. The visual acuity in his right eye is 20/80, and in his left eye, 20/20. Following an examination in 2013, his optometrist noted, “Ronald Cote's vision if [sic] sufficient to perform the driving tasks required to operate a commercial vehicle.” Mr. Cote reported that he has driven straight trucks for 10 years, accumulating 400,000 miles, and tractor-trailer combinations for 31 years, accumulating 1.86 million miles. He holds a Class A CDL from Utah. His driving record for the last 3 years shows no crashes and no convictions for moving violations in a CMV.

Michael T. Deaton

Mr. Deaton, 45, has aphakia in his right eye due to a traumatic incident in 1988. The visual acuity in his right eye is no light perception, and in his left eye, 20/20. Following an examination in 2013, his optometrist noted, “I am convinced that Mr. Deaton is perfectly capable of performing the tasks related to operating a commercial vehicle.” Mr. Deaton reported that he has driven straight trucks for 21 years, accumulating 840,000 miles. He holds an operator's license from Kentucky. His driving record for the last 3 years shows no crashes and no convictions for moving violations in a CMV.

Gilbert Deprey

Mr. Deprey, 67, has had a prosthetic right eye since childhood. The visual acuity in his right eye is no light perception, and in his left eye, 20/20. Following an examination in 2013, his optometrist noted, “In my opinion, Mr. Deprey certainly satisfies and has sufficient vision to perform driving tasks required to operate a commercial motor vehicle.” Mr. Deprey reported that he has driven straight trucks for 15 years, accumulating 750,000 miles, and tractor-trailer combinations for 18 years, accumulating 990,000 miles. He holds a Class A CDL from Maine. His driving record for the last 3 years shows no crashes and no convictions for moving violations in a CMV.

Billy D. Devine

Mr. Devine, 53, has had a prosthetic left eye since childhood. The visual acuity in his right eye is 20/20, and in his left eye, no light perception. Following an examination in 2013, his optometrist noted, “In my opinion he has sufficient vision to perform the driving tasks required to operate a commercial vehicle.” Mr. Devine reported that he has driven tractor-trailer combinations for 16 years, accumulating 1.25 million miles. He holds a Class A CDL from Washington. His driving record for the last 3 years shows no crashes and no convictions for moving violations in a CMV.

James G. Donze

Mr. Donze, 55, has had strabismic amblyopia in his right eye since childhood. The visual acuity in his right eye is 20/100, and in his left eye, 20/20. Following an examination in 2013, his optometrist noted, “In my opinion, Mr. Donze has sufficient vision to drive and operate a commercial vehicle.” Mr. Donze reported that he has driven straight trucks for 30 years, accumulating 15,000 miles. He holds a Class A CDL from Missouri. His driving record for the last 3 years shows no crashes and no convictions for moving violations in a CMV.

Kerry M. Dotson

Ms. Dotson, 46, has had caloboma in her right eye since birth. The visual acuity in her right eye is no light perception, and in her left eye, 20/25. Following an examination in 2013, her optometrist noted, “In my opinion, Ms. Dotson has sufficient vision to operate a commercial vehicle.” Ms. Dotson reported that she has driven straight trucks for 13 years, accumulating 273,000 miles. She holds a Class B CDL from Washington. Her driving record for the last 3 years shows no crashes and no convictions for moving violations in a CMV.

Jeffrey D. Duncan

Mr. Duncan, 55, has had a retinal detachment in his left eye since 2011. The visual acuity in his right eye is 20/20, and in his left eye, 20/80. Following an examination in 2013, his optometrist noted, “I certify that, in my medical opinion, this patient has sufficient vision to operate a commercial motor vehicle.” Mr. Duncan reported that he has driven straight trucks for 15 years, accumulating 337,500 miles. He holds an operator's license from Indiana. His driving record for the last 3 years show one crash, for which he was not cited but to which he did contribute by following too closely, and no convictions for moving violations in a CMV.

Charles R. Early

Mr. Early, 66, has a corneal scar in his left eye due to a traumatic incident in 1968. The visual acuity in his right eye is 20/20, and in his left eye, light perception. Following an examination in 2013, his optometrist noted, “Certify that person is able to operate commercial vehicle—This patient meets the state requirement for a restricted license (A,B) in Indiana. He does not pass the traditional vision requirement for his CDL, but it is my understanding that he may be a candidate to get an exemption considering his monocular status.” Mr. Early reported that he has driven straight trucks for 3 years, accumulating 180,000 miles, and tractor-trailer combinations for 45 years, accumulating 5.4 million miles. He holds an operator's license from Indiana. His driving record for the last 3 years shows no crashes and no convictions for moving violations in a CMV.

Scott E. Elliot

Mr. Elliot, 47, has a prosthetic right eye due to a traumatic incident in 1994. The visual acuity in his right eye is no light perception, and in his left eye, 20/20. Following an examination in 2014, his optometrist noted, “I believe Scott has sufficient vision to perform safe driving tasks while operating commercial vehicles.” Mr. Elliot reported that he has driven straight trucks for 29 years, accumulating 870,000 miles, and tractor-trailer combinations for 29 years accumulating 2.9 million miles. He holds a Class AMC CDL from New Hampshire. His driving record for the last 3 years shows no crashes and no convictions for moving violations in a CMV.

Frank J. Faria

Mr. Faria, 54, has had optic atrophy in his left eye since 2004. The visual acuity in his right eye is 20/30, and in his left eye, 20/400. Following an examination in 2013, his optometrist noted, “It is my opinion that despite the decreased vision in his left eye and visual field defects [sic] Mr. Fairer can distinguish colors of traffic controls and signals in green, red and amber. Additionally his ability to adapt and utilize both eyes aids him in performing the tasks need [sic] of a commercial truck driver.” Mr. Faria reported that he has driven straight trucks for 30 years, accumulating 300,000 miles, and tractor-trailer combinations for 30 years, accumulating 180,000 miles. He holds a Class A CDL from California. His driving record for the last 3 years shows no crashes and no convictions for moving violations in a CMV.

Raleigh K. Franklin

Mr. Franklin, 59, has had amblyopia in his left eye since childhood. The visual acuity in his right eye is 20/20, and in his left eye, 20/70. Following an examination in 2014, his optometrist noted, “I certify that, in my medical opinion, this patient has sufficient vision to operate a commercial motor vehicle.” Mr. Franklin reported that he has driven straight trucks for 38 years, accumulating 1.43 million miles, and tractor-trailer combination for 34 years, accumulating 595,000 miles. He holds a Class A CDL from Utah. His driving record for the last 3 years shows no crashes and one conviction for a moving violation in a CMV; he exceeded the speed limit by 10 mph.

Dennis A. Feather

Mr. Feather, 45, has had optic atrophy in his left eye since birth. The visual acuity in his right eye is 20/20, and in his left eye, 20/200. Following an examination in 2013, his ophthalmologist noted, “Central and peripheral vision OD and peripheral vision OS meet the standards to drive a commercial vehicle.” Mr. Feather reported that he has driven straight trucks for 3 years, accumulating 105,000 miles, and tractor-trailer combinations for 9 years, accumulating 1.8 million miles. He holds a Class A CDL from Florida. His driving record for the last 3 years shows no crashes and no convictions for moving violations in a CMV.

Michael Gargano

Mr. Gargano, 62, has had amblyopia in his right eye since childhood. The visual acuity in his right eye is 20/400, and in his left eye, 20/20. Following an examination in 2014, his optometrist noted, “In my medical opinion, Mr. Michael Gargano has more than sufficient vision to perform his duties as a commercial vehicle operator.” Mr. Gargano reported that he has driven straight trucks for 11 years, accumulating 2.75 million miles, and tractor-trailer combinations for 12 years, accumulating 6 million miles. He holds a Class A CDL from Florida. His driving record for the last 3 years shows no crashes and no convictions for moving violations in a CMV.

Nicholas C. Georgen

Mr. Georgen, 31, has had amblyopia in his right eye since childhood. The visual acuity in his right eye is 20/70, and in his left eye, 20/20. Following an examination in 2014, his ophthalmologist noted, “I would consider the patient's vision sufficient to perform the driving tasks required to operate a commercial vehicle.” Mr. Georgen reported that he has driven straight trucks for 13 years, accumulating 97,500 miles, and tractor-trailer combinations for 6 years, accumulating 30,000 miles. He holds a Class A CDL from Iowa. His driving record for the last 3 years shows no crashes and no convictions for moving violations in a CMV.

Dean D. Hawks

Mr. Hawks, 56, has had refractive amblyopia in his right eye since childhood. The visual acuity in his right eye is 20/50, and in his left eye, 20/20. Following an examination in 2013, his optometrist noted that Mr. Hawks amblyopia was not progressive and, in his medical opinion, that Mr. Hawks is safe to operate a commercial motor vehicle. Mr. Hawks reported that he has driven tractor-trailer combinations for 8 years, accumulating 720,000 miles. He holds a Class A CDL from Minnesota. His driving record for the last 3 years shows no crashes and no convictions for moving violations in a CMV.

Peter E. Jacobs

Mr. Jacobs, 43, has a retinal detachment in his right eye due to a traumatic incident during 2001. The visual acuity in his right eye is light perception and in his left eye, 20/20. Following an examination in 2014, his ophthalmologist noted, “I certify that, in my medical opinion, this patient has sufficient vision to operate a commercial motor vehicle.” Mr. Jacobs reported that he has driven straight trucks for 2 years, accumulating 110,000 miles, and tractor-trailer combinations for 16 years, accumulating 1.2 million miles. He holds a Class A CDL from Florida. His driving record for the last 3 years shows no crashes and no convictions for moving violations in a CMV.

Mark J. Jochim

Mr. Jochim, 51, has had ischemic optic neuropathy in his right eye since 2008. The visual acuity in his right eye is 20/70, and in his left eye, 20/20. Following an examination in 2013, his optometrist noted, “In my medical opinion as an optometrist, Mr. Jochim has sufficient vision to perform tasks required to operate commercial vehicles.” Mr. Jochim reported that he has driven straight trucks for 25 years, accumulating 437,500 miles, and tractor-trailer combinations for 25 years, accumulating 437,500 miles. He holds a Class A CDL from Washington. His driving record for the last 3 years shows no crashes and no convictions for moving violations in a CMV.

Robert E. Johnston, Jr.

Mr. Johnston, 52, has had congenital esotropia in his right eye since childhood. The visual acuity in his right eye is 20/200, and in his left eye, 20/20. Following an examination in 2013, his ophthalmologist noted, “It is my opinion that Robert E. Johnston has the sufficient vision to perform the driving tasks required to operate a commercial vehicle.” Mr. Johnston reported that he has driven straight trucks for 27 years, accumulating 596,700 miles. He holds a Class B CDL from Washington. His driving record for the last 3 years shows no crashes and no convictions for moving violations in a CMV.

Alfred R. Kallaus III

Mr. Kallaus, 61, has had amblyopia in his left eye since childhood. The visual acuity in his right eye is 20/25, and in his left eye, 20/150. Following an examination in 2013, his optometrist noted, “This letter is to verify that in my medical opinion, Alfred Kallaus has sufficient vision to perform the driving tasks required to operate a commercial vehicle.” Mr. Kallaus reported that he has driven straight trucks for 33 years, accumulating 132,000 miles. He holds an operator's license from California. His driving record for the last 3 years shows no crashes and no convictions for moving violations in a CMV.

Gregory J. Kuhn

Mr. Kuhn, 52, has had a macular hole in his left eye since 1988. The visual acuity in his right eye is 20/20, and in his left eye, 20/400. Following an examination in 2013, his optometrist noted, “In my medical opinion, Greg Kuhn has sufficient vision to perform the driving tasks required to operate a commercial vehicle.” Mr. Kuhn reported that he has driven straight trucks for 24 years, accumulating 420,000 miles. He holds a Class B CDL from Nebraska. His driving record for the last 3 years shows no crashes and no convictions for moving violations in a CMV.

David W. Leach

Mr. Leach, 52, has had a retinal scar in his left eye since 1984. The visual acuity in his right eye is 20/20, and in his left eye, 20/800. Following an examination in 2013, his optometrist noted that, in his medical opinion, Mr. Leach does have sufficient vision to operate a commercial motor vehicle. Mr. Leach reported that he has driven straight trucks for 30 years, accumulating 600,000 miles, and tractor-trailer combinations for 30 years, accumulating 450,000 miles. He holds a Class A CDL from Illinois. His driving record for the last 3 years shows no crashes and no convictions for moving violations in a CMV.

Jason S. Logue

Mr. Logue, 38, has had a prosthetic left eye since childhood. The visual acuity in his right eye is 20/20, and in his left eye, no light perception. Following an examination in 2013, his optometrist noted, “It is my professional medical opinion that the above has sufficient vision to safely perform the driving task required to operate a commercial vehicle.” Mr. Logue reported that he has driven straight trucks for 14 years, accumulating 224,000 miles. He holds an operator's license from Georgia. His driving record for the last 3 years shows no crashes and no convictions for moving violations in a CMV.

Jesse Long, Jr.

Mr. Long, 60, has optic nerve damage in his left eye due to a traumatic incident since childhood. The visual acuity in his right eye is 20/20, and in his left eye, 20/50. Following an examination in 2013, his optometrist noted, “Mr. Long has sufficient vision to perform the driving tasks required to operate a commercial vehicle.” Mr. Long reported that he has driven tractor-trailer combinations for 12 years, accumulating 1.2 million miles. He holds a Class A CDL from Georgia. His driving record for the last 3 years shows no crashes and no convictions for moving violations in a CMV.

John L. Lucas

Mr. Lucas, 48, has a prosthetic right eye due to a traumatic incident in 2005. The visual acuity in his right eye is no light perception, and in his left eye, 20/20. Following an examination in 2013, his ophthalmologist noted that, in his medical opinion, Mr. Lucas does have sufficient vision to operate a commercial motor vehicle. Mr. Lucas reported that he has driven straight trucks for 10 years, accumulating 150,000 miles, and tractor-trailer combinations for 20 years, accumulating 2 million miles. He holds a Class A CDL from North Carolina. His driving record for the last 3 years shows no crashes and no convictions for moving violations in a CMV.

David F. Martin

Mr. Martin, 48, has had a corneal scar in his right eye since 1975. The visual acuity in his right eye is 20/100, and in his left eye, 20/20. Following an examination in 2013, his optometrist noted that, in his medical opinion, Mr. Martin does have sufficient vision to operate a commercial motor vehicle. Mr. Martin reported that he has driven tractor-trailer combinations for 26 years, accumulating 676,000 miles. He holds a Class A CDL from New Jersey. His driving record for the last 3 years shows no crashes and no convictions for moving violations in a CMV.

Martin L. Mayes

Mr. Mayes, 54, has a retinal scar in his left eye due to a traumatic incident during childhood. The visual acuity in his right eye is 20/15, and in his left eye, counting fingers. Following an examination in 2014, his optometrist noted that, in his medical opinion, Mr. Mayes does have sufficient vision to operate a commercial motor vehicle. Mr. Mayes reported that he has driven tractor-trailer combinations for 27 years, accumulating 2.43 million miles. He holds a Class AM CDL from Georgia. His driving record for the last 3 years shows no crashes and no convictions for moving violations in a CMV.

Donald L. McCraw, Jr.

Mr. McCraw, 48, has had congenital neuropathy in his right eye since birth. The visual acuity in his right eye is 20/400, and in his left eye, 20/20. Following an examination in 2013, his optometrist noted, “In my professional opinion, Mr. McCraw's visual deficiency in the right eye has been stable, and has sufficient peripheral vision to operate a commercial vehicle provided he drives with both eyes open at all time [sic].” Mr. McCraw reported that he has driven straight trucks for 11 years, accumulating 82,500 miles. He holds a Class AM CDL from Virginia. His driving record for the last 3 years shows no crashes and no convictions for moving violations in a CMV.

Daniel A. McNabb

Mr. McNabb, 32, has had refractive amblyopia in his left eye since childhood. The visual acuity in his right eye is 20/20, and in his left eye, 20/60. Following an examination in 2013, his optometrist noted, “I certify that in my medical opinion, Danny [sic] has sufficient VISION [sic] to perform the driving tasks required to operate a commercial vehicle.” Mr. McNabb reported that he has driven straight trucks for 18 years, accumulating 810,000 miles. He holds an operator's license from Kansas. His driving record for the last 3 years shows no crashes and no convictions for moving violations in a CMV.

Phillip L. Mello

Mr. Mello, 61, has had a prosthetic right eye since 2010. The visual acuity in his right eye is no light perception, and in his left eye, 20/15. Following an examination in 2014, his optometrist noted, “in my opinion this patient has sufficient vision to operate a commercial vehicle.” Mr. Mello reported that he has driven straight trucks for 43 years, accumulating 860,000 miles, tractor-trailer combinations for 43 years, accumulating 1.5 million miles, and buses for 23 years, accumulating 115,000 miles. He holds a Class A CDL from California. His driving record for the last 3 years shows no crashes and no convictions for moving violations in a CMV.

Roberto C. Mendez

Mr. Mendez, 27, has had amblyopia in his right eye since birth. The visual acuity in his right eye is 20/100, and in his left eye, 20/20. Following an examination in 2013, his optometrist noted, “In my medical opinion, Roberto appears to have sufficient vision to perform the driving tasks required to operate a commercial vehicle.” Mr. Mendez reported that he has driven straight trucks for 5.5 years, accumulating 126,500 miles. He holds an operator's license from Texas. His driving record for the last 3 years shows no crashes and no convictions for moving violations in a CMV.

Clinton F. Merithew

Mr. Merithew, 56, has had Coat's disease in his right eye since childhood. The visual acuity in his right eye is 20/400, and in his left eye, 20/20. Following an examination in 2013, his optometrist noted, “I certify that, in my medical opinion, this patient has sufficient vision to operate a commercial motor vehicle.” Mr. Merithew reported that he has driven straight trucks for 35 years, accumulating 875,000 miles, tractor-trailer combinations for 9 years, accumulating 450,000 miles, and buses for 7 years, accumulating 35,000 miles. He holds an operator's license from Nebraska. His driving record for the last 3 years shows no crashes and no convictions for moving violations in a CMV.

Ronald S. Milkowski

Mr. Milkowski, 61, has had a prosthetic left eye since 1976. The visual acuity in his right eye is 20/20, and in his left eye, no light perception. Following an examination in 2014, his ophthalmologist noted, “In my opinion, Mr. Milkowski had [sic] a completely normal right eye with a full field of vision, and he should have no difficulty operating a commercial vehicle.” Mr. Milkowski reported that he has driven straight trucks for 33 years, accumulating 198,000 miles, and tractor-trailer combinations for 33 years, accumulating 132,000 miles. He holds a Class A CDL from New Jersey. His driving record for the last 3 years shows no crashes and no convictions for moving violations in a CMV.

Robert L. Murray

Mr. Murray, 38, has had a retinal detachment in his right eye since 2001. The visual acuity in his right eye is light perception, and in his left eye, 20/15. Following an examination in 2013, his optometrist noted, “In my opinion and in light of the fact that the defect is long standing [sic], the ocular ability of the opposite eye is very good, and his driving record, Mr. Robert Murray has sufficient vision to perform the driving tasks required to operate a commercial motor vehicle in interstate commerce.” Mr. Murray reported that he has driven straight trucks for 15 years, accumulating 420,000 miles. He holds a Class AM CDL from Illinois. His driving record for the last 3 years shows no crashes and no convictions for moving violations in a CMV.

Jeffrey L. Oswald

Mr. Oswald, 53, has had a retinal detachment in his left eye since 1980. The visual acuity in his right eye is 20/20, and in his left eye, no light perception. Following an examination in 2013, his ophthalmologist noted, “I feel Mr. Jeffrey Oswald has adequate vision in his only seeing eye to operate his axle dump truck.” Mr. Oswald reported that he has driven straight trucks for 38 years, accumulating 3.99 million miles. He holds a Class B CDL from Pennsylvania. His driving record for the last 3 years shows no crashes and one conviction for a moving violation in a CMV; he was cited for unsafe operation.

Barry L. Pylant

Mr. Pylant, 50, has had amblyopia in his left eye since childhood. The visual acuity in his right eye is 20/20, and in his left eye, 20/200. Following an examination in 2013, his optometrist noted, “In my opinion he has sufficient vision to perform the driving tasks to operate a commercial vehicle.” Mr. Pylant reported that he has driven straight trucks for 25 years, accumulating 250,000 miles. He holds a Class BMV CDL from Alabama. His driving record for the last 3 years shows no crashes and no convictions for moving violations in a CMV.

Steve W. Quenzer

Mr. Quenzer, 56, has had amblyopia in his right eye since birth. The visual acuity in his right eye is 20/50, and in his left eye, 20/20. Following an examination in 2013, his optometrist noted, “In my opinion Steve has sufficient vision for a CDL as also attested by myself 11 years ago.” Mr. Quenzer reported that he has driven straight trucks for 15 years, accumulating 75,000 miles, and tractor-trailer combinations for 15 years, accumulating 75,000 miles. He holds a Class A3 CDL from South Dakota. His driving record for the last 3 years shows no crashes and no convictions for moving violations in a CMV.

Bradley W. Reed

Mr. Reed, 27, has complete loss of vision in his right eye due to a traumatic incident during childhood. The visual acuity in his right eye is no light perception, and in his left eye, 20/20. Following an examination in 2014, his optometrist noted, “In my opinion Bradley Reed has sufficient vision to operate a commercial vehicle.” Mr. Reed reported that he has driven tractor-trailer combinations for 10 years, accumulating 250,000 miles. He holds an operator's license from Alabama. His driving record for the last 3 years shows no crashes and no convictions for moving violations in a CMV.

Jamey D. Reed

Mr. Reed, 42, has had a chorioretinal scar in his left eye since childhood. The visual acuity in his right eye is 20/20, and in his left eye, 20/400. Following an examination in 2013, his optometrist noted that, in his medical opinion, Mr. Reed does have sufficient vision to operate a commercial motor vehicle. Mr. Reed reported that he has driven straight trucks for 10 years, accumulating 600,000 miles, and tractor-trailer combinations for 3 years, accumulating 240,000 miles. He holds a Class A CDL from Texas. His driving record for the last 3 years shows no crashes and no convictions for moving violations in a CMV.

Erik M. Rice

Mr. Rice, 49, has had a retinal detachment in his right eye since childhood. The visual acuity in his right eye is 20/200, and in his left eye, 20/20. Following an examination in 2013, his optometrist noted, “Status Post Retinal Detachment OD—stable since childhood . . . Able to operate commercial vehicle.” Mr. Rice reported that he has driven tractor-trailer combinations for 1 year, accumulating 60,000 miles. He holds a Class A CDL from Texas. His driving record for the last 3 years shows no crashes and no convictions for moving violations in a CMV.

Thomas A. Rients

Mr. Rients, 64, has had complete loss of vision in his left eye due to a traumatic incident in 1980. The visual acuity in his right eye is 20/15, and in his left eye, no light perception. Following an examination in 2014, his ophthalmologist noted, “I certify that, in my medical opinion, this patient has sufficient vision to operate a commercial motor vehicle.” Mr. Rients reported that he has driven straight trucks for 35 years, accumulating 420,000 miles, and tractor-trailer combinations for 35 years, accumulating 420,000 miles. He holds a Class A CDL from Illinois. His driving record for the last 3 years shows no crashes and no convictions for moving violations in a CMV.

Harry L. Ross

Mr. Ross, 61, has had a retinal detachment in his right eye since 1983. The visual acuity in his right eye is 20/200, and in his left eye, 20/20. Following an examination in 2013, his optometrist noted, “Mr. Ross has a history of a 1983 retinal detachment in the right eye . . . I believe he may operate a large truck/bus for his job.” Mr. Ross reported that he has driven straight trucks for 25 years, accumulating 750,000 miles. He holds a Class B CDL from Kansas. His driving record for the last 3 years shows no crashes and no convictions for moving violations in a CMV.

Ricky D. Rostad

Mr. Rostad, 48, has had refractive amblyopia in his right eye since childhood. The visual acuity in his right eye is 20/80, and in his left eye, 20/20. Following an examination in 2013, his optometrist noted, “In my opinion, Mr. Rostad has sufficient vision to perform the driving tasks required to operate a commercial motor vehicle.” Mr. Rostad reported that he has driven buses for 3 years, accumulating 39,000 miles. He holds an operator's license from Minnesota. His driving record for the last 3 years shows no crashes and no convictions for moving violations in a CMV.

Chad M. St. Mary

Mr. St. Mary, 30, has a prosthetic left eye due to a traumatic incident in 1989. The visual acuity in his right eye is 20/20, and in his left eye, no light perception. Following an examination in 2013, his optometrist noted, “Based on Chad's vision examination results, I believe he has sufficient vision to perform driving tasks for a commercial vehicle.” Mr. St. Mary reported that he has driven straight trucks for 12 years, accumulating 120,000 miles. He holds an operator's license from Minnesota. His driving record for the last 3 years shows no crashes and no convictions for moving violations in a CMV.

Tatum R. Schmidt

Mr. Schmidt, 23, has a retinal detachment, aphakia, and a macular scar due to a traumatic incident in 2004. The visual acuity in his right eye is 20/100, and in his left eye, 20/20. Following an examination in 2013, his ophthalmologist noted, “In my medical opinion, Tatum has sufficient vision to perform the driving test required to operate a commercial vehicle.” Mr. Schmidt reported that he has driven straight trucks for 4 years, accumulating 14,940 miles, and tractor-trailer combinations for 4 years, accumulating 65,000 miles. He holds a Class A CDL from Iowa. His driving record for the last 3 years shows no crashes and no convictions for moving violations in a CMV.

Harry J. Scholl

Mr. Scholl, 36, has had myopia and amblyopia in his left eye since childhood. The visual acuity in his right eye is 20/20, and in his left eye, 20/100. Following an examination in 2013, his ophthalmologist noted, “It is my opinion that Mr. Scholl has sufficient vision to perform the driving tasks required to operate a commercial vehicle.” Mr. Scholl reported that he has driven straight trucks for 2 years, accumulating 30,000 miles. He holds an operator's license from Pennsylvania. His driving record for the last 3 years shows no crashes and no convictions for moving violations in a CMV.

Jacob A. Shaffer

Mr. Shaffer, 52, has complete loss of vision due to a traumatic incident during childhood. The visual acuity in his right eye is 20/20, and in his left eye, no light perception. Following an examination in 2013, his optometrist noted that, in her medical opinion, Mr. Shaffer does have sufficient vision to operate a commercial motor vehicle. Mr. Shaffer reported that he has driven straight trucks for 25 years, accumulating 1.25 million miles, and tractor-trailer combinations for 10 years, accumulating 10,000 miles. He holds a Class AM CDL from Pennsylvania. His driving record for the last 3 years shows no crashes and no convictions for moving violations in a CMV.

Carl D. Short

Mr. Short, 55, has had amblyopia in his left eye since childhood. The visual acuity in his right eye is 20/25, and in his left eye, 20/200. Following an examination in 2013, his ophthalmologist noted, “In my medical opinion, I feel you have sufficient vision to perform the driving tasks required to operate a commercial vehicle.” Mr. Short reported that he has driven straight trucks for 5 years, accumulating 150,000 miles, and tractor-trailer combinations for 23 years, accumulating 1.15 million miles. He holds a Class A CDL from Missouri. His driving record for the last 3 years shows no crashes and no convictions for moving violations in a CMV.

Michael W. Slief

Mr. Slief, 32, has had refractive amblyopia in his right eye since birth. The visual acuity in his right eye is 20/70, and in his left eye, 20/20. Following an examination in 2013, his optometrist noted, “In my medical opinion, Michael has sufficient vision to perform the driving tasks required to operate a commercial vehicle.” Mr. Slief reported that he has driven straight trucks for 8 years, accumulating 80,000 miles, and tractor-trailer combinations for 8 years, accumulating 12,000 miles. He holds a Class A CDL from Kansas. His driving record for the last 3 years shows no crashes and no convictions for moving violations in a CMV.

Thomas G. Smedema

Mr. Smedema, 62, has had strabismus in his left eye since childhood. The visual acuity in his right eye is 20/20, and in his left eye, 20/200. Following an examination in 2013, his optometrist noted, “However, I believe in observation of his ambulation and motor skills he has sufficient vision capacity to perform the driving tasks required to operate a commercial vehicle, and, if his driving record reflects an uneventful and safe history, which I leave to your determination, he is a candidate for this exemption.” Mr. Smedema reported that he has driven straight trucks for 40 years, accumulating 240,000 miles. He holds a Class BCDM CDL from Wisconsin. His driving record for the last 3 years shows no crashes and no convictions for moving violations in a CMV.

James S. Smith

Mr. Smith, 24, has had amblyopia in his right eye since childhood. The visual acuity in his right eye is 20/70, and in his left eye, 20/20. Following an examination in 2014, his optometrist noted, “Based on the results of the visual tests performed, if Mr. Smith is wearing his prescription glasses, I do not see any reason why he could not perform the driving tasks required to operate a commercial vehicle.” Mr. Smith reported that he has driven tractor-trailer combinations for 3 years, accumulating 300,000 miles. He holds a Class A CDL from Arkansas. His driving record for the last 3 years shows no crashes and no convictions for moving violations in a CMV.

Steven S. Smith, Jr.

Mr. Smith, 37, has had refractive amblyopia in his right eye since birth. The visual acuity in his right eye is 20/80, and in his left eye, 20/20. Following an examination in 2013, his optometrist noted, “Mr. Smith has sufficient vision to perform the driving tasks required to operate a commercial vehicle.” Mr. Smith reported that he has driven straight trucks for 3 years, accumulating 15,000 miles. He holds an operator's license from Pennsylvania. His driving record for the last 3 years shows no crashes and no convictions for moving violations in a CMV.

Thomas W. Smith

Mr. Smith, 49, has had glaucoma in his left eye since 2002. The visual acuity in his right eye is 20/20, and in his left eye, hand motion. Following an examination in 2013, his ophthalmologist noted, “I certify that, in my medical opinion, this patient has sufficient vision to operate a commercial motor vehicle.” Mr. Smith reported that he has driven straight trucks for 25 years, accumulating 25,000 miles. He holds a Class B CDL from Pennsylvania. His driving record for the last 3 years shows no crashes and no convictions for moving violations in a CMV.

Richard H. Solum

Mr. Solum, 72, has had exfoliative glaucoma in his left eye since 2008. The visual acuity in his right eye is 20/25, and in his left eye, light perception. Following an examination in 2013, his optometrist noted, “It is my opinion that Mr. Solum has sufficient vision to perform driving [sic] the driving tasks required to operate a commercial vehicle.” Mr. Solum reported that he has driven straight trucks for 5 years, accumulating 2,500 miles, and tractor-trailer combinations for 25 years, accumulating 625,000 miles. He holds a Class A CDL from Minnesota. His driving record for the last 3 years shows no crashes and no convictions for moving violations in a CMV.

Scott R. Sorensen

Mr. Sorensen, 49, has had amblyopia in his left eye since childhood. The visual acuity in his right eye is 20/20, and in his left eye, counting fingers. Following an examination in 2014, his ophthalmologist noted, “I certify that, in my medical opinion, this patient has sufficient vision to operate a commercial motor vehicle.” Mr. Sorensen reported that he has driven straight trucks for 30 years, accumulating 900,000 miles, and tractor-trailer combinations for 4 years, accumulating 160,000 miles. He holds a Class AM CDL from California. His driving record for the last 3 years shows no crashes and no convictions for moving violations in a CMV.

Robert W. Stewart

Mr. Stewart, 52, has a central vision decrease due to a traumatic incident during childhood. The visual acuity in his right eye is counting fingers, and in his left eye, 20/20. Following an examination in 2013, his optometrist noted, “In my medical opinion, Mr. Stewart has sufficient vision to perform the driving tasks required to operate a commercial vehicle.” Mr. Stewart reported that he has driven straight trucks for 9 years, accumulating 4,500 miles, and tractor-trailer combinations for 9 years, accumulating 4,500 miles. He holds a Class A CDL from Missouri. His driving record for the last 3 years shows no crashes and no convictions for moving violations in a CMV.

Samuel M. Stoltzfus

Mr. Stoltzfus, 51, has had amblyopia in his left eye since childhood. The visual acuity in his right eye is 20/20, and in his left eye, 20/100. Following an examination in 2013, his optometrist noted, “Mr. Stoltzfus has longstanding deeply embedded amblyopia in his left eye . . . He does need the double mirror to continue with his CDL but is otherwise safe to operate a motor carrier.” Mr. Stoltzfus reported that he has driven straight trucks for 27 years, accumulating 135,000 miles, and tractor-trailer combinations for 12 years, accumulating 2,400 miles. He holds a Class A CDL from Pennsylvania. His driving record for the last 3 years shows no crashes and no convictions for moving violations in a CMV.

Elston L. Taylor

Mr. Taylor, 58, has had a retinal artery occlusion in his right eye since 2009. The visual acuity in his right eye is 20/400, and in his left eye, 20/20. Following an examination in 2013, his optometrist noted, “It is my medical opinion that Mr. Taylor has sufficient vision and fields to operate a commercial vehicle.” Mr. Taylor reported that he has driven straight trucks for 10 years, accumulating 50,000 miles, and tractor-trailer combinations for 15.5 years, accumulating 1.5 million miles. He holds a temporary Class A CDL permit from Virginia. His driving record for the last 3 years shows no crashes and no convictions for moving violations in a CMV.

Sherman L. Taylor

Mr. Taylor, 47, has had amblyopia in his left eye since childhood. The visual acuity in his right eye is 20/20, and in his left eye, 20/200. Following an examination in 2013, his optometrist noted, “I certify that Sherman Lee Taylor has sufficient vision to perform the driving tasks required to operate a commercial vehicle.” Mr. Taylor reported that he has driven tractor-trailer combinations for 8 years, accumulating 1.28 million miles. He holds a Class A CDL from Florida. His driving record for the last 3 years shows no crashes and no convictions for moving violations in a CMV.

Robert E. Troutman

Mr. Troutman, 32, has scar tissue in his right eye due to a traumatic incident in 2010. The visual acuity in his right eye is 20/20, and in his left eye, 20/200. Following an examination in 2014, his optometrist noted, “Mr. Troutman, despite acuity deficient in his right eye, has sufficient peripheral field vision to safety perform the driving tasks to operate a commercial vehicle.” Mr. Troutman reported that he has driven straight trucks for 14 years, accumulating 168,000 miles. He holds an operator's license from North Carolina. His driving record for the last 3 years shows no crashes and no convictions for moving violations in a CMV.

Dale E. Williams

Mr. Williams, 62, has glaucoma in his right eye due to a traumatic incident during childhood. The visual acuity in his right eye is no light perception, and in his left eye, 20/20. Following an examination in 2013, his optometrist noted, “I feel that the results combined with Mr. Williams past driving record should in no way impair his ability to drive a commercial vehicle safely.” Mr. Williams reported that he has driven straight trucks for 19 years, accumulating 665,000 miles. He holds a Class BM CDL from Texas. His driving record for the last 3 years shows no crashes and no convictions for moving violations in a CMV.

Steven E. Young

Mr. Young, 44, has had refractive amblyopia in his left eye since childhood. The visual acuity in his right eye is 20/20, and in his left eye, 20/400. Following an examination in 2013, his optometrist noted, “In my medical opinion, Steve certainly has sufficient vision to perform the driving tasks required to operate a commercial vehicle.” Mr. Young reported that he has driven straight trucks for 2 years, accumulating 2,000 miles. He holds a Class B CDL from Missouri. His driving record for the last 3 years shows no crashes and no convictions for moving violations in a CMV.

Request for Comments

In accordance with 49 U.S.C. 31136(e) and 31315, FMCSA requests public comment from all interested persons on the exemption petitions described in this notice. The Agency will consider all comments received before the close of business April 14, 2014. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2014-0003 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change this proposed rule based on your comments. FMCSA may issue a final rule at any time after the close of the comment period.

Viewing Comments and Documents

To view comments, as well as any documents mentioned in this preamble, To submit your comment online, go to http://www.regulations.gov and in the search box insert the docket number FMCSA-2014-0003 and click “Search.” Next, click “Open Docket Folder” and you will find all documents and comments related to the proposed rulemaking.

Issued on: February 26, 2014.
Larry W. Minor,
Associate Administrator for Policy.

[FR Doc. 2014-05622 Filed 3-13-14; 8:45 am]

BILLING CODE 4910-EX-P